NUCLEAR REGULATORY COMMISSION

[NRC-2009-0166]

Issuance and Availability of Draft Regulatory Guide

AGENCY: Nuclear Regulatory Commission.

ACTION: Notice of issuance and availability of Draft Regulatory Guide 1211.

FOR FURTHER INFORMATION CONTACT: Wallace E. Norris, Division of Engineering, Office of Nuclear Regulatory Research, U.S. Nuclear Regulatory Commission, Washington, DC 20555-0001, telephone (301) 251-7650 or e-mail to Wallace.Norris@nrc.gov.

SUPPLEMENTARY INFORMATION:

I. Introduction

The U.S. Nuclear Regulatory Commission (NRC) is issuing for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Materials and Inspections for Reactor Vessel Closure Studs,” is temporarily identified by its task number, DG-1211, which should be mentioned in all related correspondence. DG-1211 is the proposed Revision 1 of Regulatory Guide 1.65.

General Design Criterion 1, “Quality Standards and Records,” of Appendix A, “General Design Criteria for Nuclear Power Plants,” to Title 10, Part 50, “Domestic Licensing of Production and Utilization Facilities,” of the Code of Federal Regulations (10 CFR part 50), requires, in part, that structures, systems, and components important to safety be designed, fabricated, erected, and tested to quality standards commensurate with the importance of the safety function to be performed. Where generally recognized codes and standards are used, Criterion 1 requires that they be identified and evaluated to determine their applicability, adequacy, and sufficiency and be supplemented or modified as necessary to ensure a quality product in keeping with the required safety function.

Criterion 30, “Quality of Reactor Coolant Pressure Boundary,” of the same appendix requires, in part, that components that are part of the reactor coolant pressure boundary be designed, fabricated, erected, and tested to the highest practical quality standards.

Criterion 31, “Fracture Prevention of Reactor Coolant Pressure Boundary,” requires, in part, that the reactor coolant pressure boundary be designed with sufficient margin to assure that when stressed under operating, maintenance, testing, and postulated accident conditions (1) the boundary behaves in a nonbrittle manner and (2) the probability of rapidly propagating fracture is minimized.

Appendix B, “Quality Assurance Criteria for Nuclear Power Plants and Fuel Reprocessing Plants,” to 10 CFR part 50 requires, in part, that measures be established for the control of special processing such as heat treating and that proper testing be performed.

II. Further Information

The NRC staff is soliciting comments on DG-1211. Comments may be accompanied by relevant information or supporting data, and should mention DG-1211 in the subject line. Comments submitted in writing or in electronic form will be made available to the public in their entirety through the NRC's Agencywide Documents Access and Management System (ADAMS).

Personal information will not be removed from the comments. Comments may be submitted by any of the following methods:

1. Mail to: Rulemaking and Directives Branch, Mail Stop: TWB-05-B01M, Office of Administration, U.S. Nuclear Regulatory Commission, Washington, DC 20555-0001.

2. Fax to: Rulemaking and Directives Branch, Office of Administration, U.S. Nuclear Regulatory Commission at (301) 492-3446.

Requests for technical information about DG-1211 may be directed to Wallace E. Norris at (301) 251-7650 or e-mail to Wallace.Norris@nrc.gov.

Comments would be most helpful if received by June 12, 2009. Comments received after that date will be considered if it is practical to do so, but the NRC is able to ensure consideration only for comments received on or before this date. Although a time limit is given, comments and suggestions in connection with items for inclusion in guides currently being developed or improvements in all published guides are encouraged at any time.

Electronic copies of DG-1211 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML082820439.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 6th day of April 2009.
For the Nuclear Regulatory Commission.
Andrea D. Valentin,
Chief, Regulatory Guide Development Branch, Division of Engineering, Office of Nuclear Regulatory Research.

[FR Doc. E9-8597 Filed 4-14-09; 8:45 am]

BILLING CODE 7590-01-P